DEPARTMENT OF COMMERCE

International Trade Administration

[A-533-910]

Paper File Folders From India: Final Affirmative Determination of Sales at Less Than Fair Value

AGENCY: Enforcement and Compliance, International Trade Administration, Department of Commerce.

SUMMARY: The U.S. Department of Commerce (Commerce) determines that paper file folders from India are being, or are likely to be, sold in the United States at less than fair value (LTFV). The period of investigation (POI) is October 1, 2021, through September 30, 2022.

DATES: Applicable October 5, 2023.

FOR FURTHER INFORMATION CONTACT: Eric Hawkins, AD/CVD Operations, Office V, Enforcement and Compliance, International Trade Administration, U.S. Department of Commerce, 1401 Constitution Avenue NW, Washington, DC 20230; telephone: (202) 482-1988.

SUPPLEMENTARY INFORMATION:

Background

On May 17, 2023, Commerce published in the Federal Register its Preliminary Determination of the LTFV investigation of paper file folders from India, in which it also postponed the final determination until September 29, 2023.¹ Commerce invited interested parties to comment on the Preliminary Determination.² We received comments on the Preliminary Determination from Navneet Education Limited (Navneet) and the Coalition of Domestic Folder Manufacturers (the petitioner) on July 25, 2023.³ On August 4, 2023, we received rebuttal briefs from the petitioner and Navneet.⁴

¹ See Paper File Folders from India: Preliminary Affirmative Determination of Sales at Less Than Fair Value, Postponement of Final Determination, and Extension of Provisional Measures, 88 FR 31490 (May 17, 2023) (Preliminary Determination), and accompanying Preliminary Decision Memorandum.

² Id.

³ See Navneet's Letter, “Navneet's Administrative Case Brief,” dated July 25, 2023; Petitioner's Letter, “Petitioner's Case Brief,” dated July 25, 2023.

⁴ See Petitioner's Letter, “Petitioner's Rebuttal Brief,” dated August 4, 2023; Navneet's Letter, “Navneet's Administrative Rebuttal Brief,” dated August 4, 2023.

For a complete description of the events that followed the Preliminary Determination, see the Issues and Decision Memorandum.⁵ The Issues and Decision Memorandum is a public document and is available electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Issues and Decision Memorandum for the Final Affirmative Determination in the Less-Than-Fair-Value Investigation of Paper File Folders from India,” dated concurrently with, and hereby adopted by, this notice (Issues and Decision Memorandum).

Scope of the Investigation

The products covered by this investigation are paper file folders from India. For a full description of the scope of this investigation, see Appendix I.

Scope Comments

During the course of this investigation, Commerce received scope comments from interested parties. Commerce issued a Preliminary Scope Memorandum to address these comments and set aside a period of time for parties to address scope issues in scope-specific case and rebuttal briefs.⁶ We did not receive comments from any interested parties on the Preliminary Scope Memorandum. We, therefore, did not make any changes to the scope of the investigation from the scope published in the Preliminary Determination, as noted in Appendix I.

⁶ See Memorandum, “Preliminary Scope Decision Memorandum,” dated May 10, 2023 (Preliminary Scope Memorandum).

Verification

As provided in section 782(i) of the Tariff Act of 1930, as amended (the Act), in May 2023, we conducted verification of the sales and cost information submitted by Navneet for use in our final determination. Commerce conducted an on-site verification, including an examination of relevant sales and cost accounting records, and original source documents provided by Navneet.⁷

⁷ See Memoranda, “Verification of the Questionnaire Response of Navneet Education Limited in the Less-Than-Fair-Value Investigation of Paper File Folders from India,” dated June 14, 2023; and “Verification of the Cost Response of Navneet Education Limited in the Antidumping Duty Investigation of Paper File Folders from India,” dated July 10, 2023.

Analysis of Comments Received

All issues raised in the case and rebuttal briefs by parties in this investigation are discussed in the Issues and Decision Memorandum. A list of the issues raised in the Issues and Decision Memorandum is attached to this notice as Appendix II.

Changes Since the Preliminary Determination

We have made one change to the margin calculations for Navneet since the Preliminary Determination. See the Issues and Decision Memorandum for a discussion of this change.

Use of Adverse Facts Available

As discussed in the Preliminary Determination, Commerce assigned to certain mandatory respondents in this investigation, Kokuyo Riddhi Paper Products Pvt. Ltd (Kokuyo) and LGPL Paper Industries Pvt. Limited (LGPL), estimated weighted-average dumping margins on the basis of adverse facts available (AFA), pursuant to sections 776(a) and (b) of the Act.⁸ There is no new information on the record that would cause us to revisit our decision in the Preliminary Determination. Accordingly, for this final determination, we continue to find that the application of AFA pursuant to sections 776(a) and (b) of the Act is warranted with respect to Kokuyo and LGPL.

⁸ See Preliminary Determination, 88 FR at 31491.

Pursuant to section 776(b) of the Act, we examined the dumping margins alleged in the petition, the weighted-average dumping margin calculated in this final determination, and other information of the record of this investigation to determine an appropriate estimated weighted-average dumping margin for Kokuyo and LGPL based on AFA. Thus, we are assigning Kokuyo and LGPL the highest petition margin we are able to corroborate (i.e., 86.01 percent) based on AFA.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act.

In this case, Commerce calculated an individual estimated weighted-average dumping margin for Navneet that is not zero, de minimis, or determined entirely under section 776 of the Act. Consequently, the rate calculated for Navneet is also assigned as the rate for all other producers and exporters.

Final Determination

Commerce determines that the following estimated weighted-average dumping margins exist for the POI:

⁹ In the companion countervailing duty investigation, Commerce calculated a 3.78 percent export subsidy rate for Navneet. See unpublished Federal Register notice titled “Paper File Folders from India: Final Affirmative Countervailing Duty Determination,” dated concurrently with, and hereby adopted by, this notice.

Producer/exporter | Weighted- average dumping margin (percent) | Cash deposit rate (adjusted for subsidy offsets) (percent) ⁹
Navneet Education Limited | 17.22 | 13.44
Kokuyo Riddhi Paper Products Pvt. Ltd | 86.01 | 82.23
LGPL Paper Industries Pvt. Limited | 86.01 | 82.23
All Others | 17.22 | 13.44

Disclosure

Commerce intends to disclose its calculations and analysis performed to interested parties in this final determination within five days after the date of any public announcement or, if there is no public announcement, within five days after the date of publication of this notice, in accordance with 19 CFR 351.224(b).

Continuation of Suspension of Liquidation

In accordance with section 735(c)(1)(B) of the Act, Commerce will instruct U.S. Customs and Border Protection (CBP) to continue to suspend liquidation of all entries of paper file folders from India, as described in Appendix I to this notice, which were entered, or withdrawn from warehouse for consumption on or after May 17, 2023, the date of publication of Preliminary Determination of this investigation in the Federal Register.

Pursuant to section 735(c)(1)(B)(ii) of the Act and 19 CFR 351.210(d), where appropriate, Commerce will instruct CBP to require a cash deposit equal to the estimated weighted-average dumping margin or the estimated all-others rate, as follows: (1) the cash deposit rate for the respondents listed above will be equal to the company-specific estimated weighted-average dumping margin determined in this final determination; (2) if the exporter is not a respondent identified above but the producer is, then the cash deposit rate will be equal to the company-specific estimated weighted-average dumping margin established for that producer of the subject merchandise; and (3) the cash deposit rate for all other producers and exporters will be equal to the all-others estimated weighted-average dumping margin. These suspension of liquidation instructions will remain in effect until further notice.

U.S. International Trade Commission Notification

In accordance with section 735(d) of the Act, we will notify the U.S. International Trade Commission (ITC) of the final affirmative determination of sales at LTFV. Because Commerce's final determination is affirmative, in accordance with section 735(b)(2) of the Act, the ITC will make its final determination as to whether the domestic industry in the United States is materially injured, or threatened with material injury, by reason of imports or sales (or the likelihood of sales) for importation of paper file folder from India no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Order

This notice will serve as a final reminder to the parties subject to an administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination is issued and published in accordance with sections 735(d) and 777(i)(1) of the Act, and 19 CFR 351.210(c).

Dated: September 29, 2023.
Lisa W. Wang,
Assistant Secretary for Enforcement and Compliance.

Appendix I—Scope of the Investigation

The products within the scope of this investigation are file folders consisting primarily of paper, paperboard, pressboard, or other cellulose material, whether coated or uncoated, that has been folded (or creased in preparation to be folded), glued, taped, bound, or otherwise assembled to be suitable for holding documents. The scope includes all such folders, regardless of color, whether or not expanding, whether or not laminated, and with or without tabs, fasteners, closures, hooks, rods, hangers, pockets, gussets, or internal dividers. The term “primarily” as used in the first sentence of this scope means 50 percent or more of the total product weight, exclusive of the weight of fasteners, closures, hooks, rods, hangers, removable tabs, and similar accessories, and exclusive of the weight of packaging.

Subject folders have the following dimensions in their folded and closed position: lengths and widths of at least 8 inches and no greater than 17 inches, regardless of depth.

The scope covers all varieties of folders, including but not limited to manila folders, hanging folders, fastener folders, classification folders, expanding folders, pockets, jackets, and wallets.

Excluded from the scope are:

• mailing envelopes with a flap bearing one or more adhesive strips that can be used permanently to seal the entire length of a side such that, when sealed, the folder is closed on all four sides;

• binders, with two or more rings to hold documents in place, made from paperboard or pressboard encased entirely in plastic;

• binders consisting of a front cover, back cover, and spine, with or without a flap; to be excluded, a mechanism with two or more metal rings must be included on or adjacent to the interior spine;

• non-expanding folders with a depth exceeding 2.5 inches and that are closed or closeable on the top, bottom, and all four sides (e.g., boxes or cartons);

• expanding folders that have (1) 13 or more pockets, (2) a flap covering the top, (3) a latching mechanism made of plastic and/or metal to close the flap, and (4) an affixed plastic or metal carry handle;

• folders that have an outer surface (other than the gusset, handles, and/or closing mechanisms, if any) that is covered entirely with fabric, leather, and/or faux leather;

• fashion folders, which are defined as folders with all of the following characteristics: (1) plastic lamination covering the entire exterior of the folder, (2) printing, foil stamping, embossing (i.e., raised relief patterns that are recessed on the opposite side), and/or 10 debossing (i.e., recessed relief patterns that are raised on the opposite side), covering the entire exterior surface area of the folder, (3) at least two visible and printed or foil stamped colors (other than the color of the base paper), each of which separately covers no less than 10 percent of the entire exterior surface area, and (4) patterns, pictures, designs, or artwork covering no less than thirty percent of the exterior surface area of the folder;

• portfolios, which are folders having (1) a width of at least 16 inches when open flat, (2) no tabs or dividers, and (3) one or more pockets that are suitable for holding letter size documents and that cover at least 15 percent of the surface area of the relevant interior side or sides; and

• report covers, which are folders having (1) no tabs, dividers, or pockets, and (2) one or more fasteners or clips, each of which is permanently affixed to the center fold, to hold papers securely in place.

Imports of the subject merchandise are provided for under Harmonized Tariff Schedule of the United States (HTSUS) category 4820.30.0040. Subject imports may also enter under other HTSUS classifications. While the HTSUS subheading is provided for convenience and customs purposes, the written description of the scope of the investigation is dispositive.

Appendix II—List of Topics Discussed in the Issues and Decision Memorandum

I. Summary

II. Background

III. Changes From the Preliminary Determination

IV. Use of Facts Available With an Adverse Inference

V. Discussion of the Issues

Comment 1: Source for Constructed Value (CV) Profit and Selling Expenses

Comment 2: Calculation of CV Profit

VI. Recommendation

[FR Doc. 2023-22194 Filed 10-4-23; 8:45 am]

BILLING CODE 3510-DS-P